DEPARTMENT OF TRANSPORTATION

Federal Highway Administration

Notice To Rescind a Notice of Intent To Prepare an Environmental Impact Statement: State Route 374, From State Route 13 to State Route 76 in Clarksville, Montgomery County, TN

AGENCY: Federal Highway Administration (FHWA), DOT.

ACTION: Notice to rescind a Notice of Intent to prepare an Environmental Impact Statement (EIS).

SUMMARY: The Federal Highway Administration (FHWA) is issuing this notice to advise the public that the Notice of Intent published on November 12, 1996, at 61 FR 58094, to prepare an Environmental Impact Statement (EIS) for the proposed State Route 374, from State Route 13 to State Route 76 in Clarksville, Montgomery County, Tennessee, is being rescinded.

FOR FURTHER INFORMATION CONTACT: Mr. Charles J. O'Neill, Planning and Program Management Team Leader, FHWA-Tennessee Division Office, 640 Grassmere Park Road, Suite 112, Nashville, TN 37211. Phone: (615) 781-5772.

SUPPLEMENTARY INFORMATION: The FHWA, in cooperation with the Tennessee Department of Transportation is rescinding the Notice of Intent (NOI) to prepare an EIS for State Route 374, from State Route 13 to State Route 76 in Clarksville, Montgomery County, Tennessee. The proposed project called for the construction of a four-lane divided partial access-controlled facility from State Route 13 to State Route 76 in Clarksville, Tennessee.

A Draft Environmental Impact Statement (DEIS) was approved on March 27, 2000. Due to the age of the DEIS and the desire to assess any potential changes in the impacts to the human and natural environment, a new EIS will be prepared. The new EIS will fully evaluate the human and natural environmental impacts and will evaluate all reasonable alternatives. The original NOI is being rescinded and a new NOI will be published subsequent to this NOI.

To ensure that the full range of issues related to this proposed action are identified and taken into account, comments and suggestions are invited from all interested parties. Comments and questions concerning the proposed action should be directed to the FHWA contact person identified above at the address provided above.

(Catalog of Federal Domestic Assistance Program Number 20.205, Highway Planning and Construction. The regulations implementing Executive Order 12372 regarding intergovernmental consultation on Federal programs and activities apply to this proposed program.)

Issued on: December 17, 2008.
Charles J. O'Neill,
Planning and Program Mgmt. Team Leader, Nashville, TN.

[FR Doc. E8-30577 Filed 12-23-08; 8:45 am]

BILLING CODE 4910-22-P